DEPARTMENT OF THE TREASURY

Secret Service

Appointment of Performance Review Board (PRB) Members

The notice announces the appointment of members of the Senior Executive Service Performance Review Boards in accordance with 5 U.S.C. 4314(c)(4) for the rating period beginning October 1, 2001, and ending September 30, 2002. Each PRB will be composed of at least three of the Senior Executive Service members listed below.

Name and Title

Carlton D. Spriggs—Deputy Director, U.S. Secret Service

George D. Rodgers—Assistant Director, Investigations (USSS)

Donald A. Flynn—Assistant Director, Protective Operations (USSS)

Barbara S. Riggs—Assistant Director, Protective Research (USSS)

Stephen T. Colo—Assistant Director, Administration (USSS)

H. Terrence Samway—Assistant Director, Inspection (USSS)

Patrick C. Miller—Assistant Director, Human Resources & Training (USSS)

Paul D. Irving—Assistant Director, Government & Public Affairs (USSS)

John J. Kelleher—Chief Counsel (USSS)

FOR FURTHER INFORMATION CONTACT: Sheila M. Lumsden, Chief, Personnel Division, 950 H St., NW., Suite 7400, Washington, DC 20223, Telephone No. (202) 406-5307.

Brian L. Stafford,
Director.

[FR Doc. 02-21895 Filed 8-27-02; 8:45 am]

BILLING CODE 4810-42-M